DEPARTMENT OF HOMELAND SECURITY

Federal Emergency Management Agency

[Docket ID: FEMA-2013-0050; OMB No. 1660-0025]

Agency Information Collection Activities: Proposed Collection; Comment Request

AGENCY: Federal Emergency Management Agency, DHS.

ACTION: Notice.

SUMMARY: The Federal Emergency Management Agency, as part of its continuing effort to reduce paperwork and respondent burden, invites the general public and other Federal agencies to take this opportunity to comment on a revision of a currently approved information collection. In accordance with the Paperwork Reduction Act of 1995, this notice seeks comments concerning FEMA grant administration forms used in disaster and non-disaster grant programs.

DATES: Comments must be submitted on or before March 10, 2014.

ADDRESSES: To avoid duplicate submissions to the docket, please use only one of the following means to submit comments:

(1) Online. Submit comments at www.regulations.gov under Docket ID FEMA-2013-0050. Follow the instructions for submitting comments.

(2) Mail. Submit written comments to Regulatory Affairs Division, Office of Chief Counsel, DHS/FEMA, 500 C Street SW., Room 8NE, Washington, DC 20472-3100.

(3) Facsimile. Submit comments to (703) 483-2999.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Pamela Greene, Assistance Officer, Protection and National Preparedness, Grant Program Directorate, (202) 786-9519. You may contact the Records Management Division for copies of the proposed collection of information at facsimile number (202) 646-3347 or email address: FEMA-Information-Collections-Management@dhs.gov.

SUPPLEMENTARY INFORMATION:

Title 44 CFR, Part 13, Uniform Administrative Requirements for Grants and Cooperative Agreements to State and Local Government establishes uniform administrative rules for Federal grants and cooperative agreements and sub-awards to State, local and Indian tribal governments. FEMA, in coordination with the Department of Homeland Security (DHS), has determined that in order to have consistent implementation of FEMA grant administration policies and to minimize the administrative disruption for State and local partners, it is necessary to standardize FEMA grant administration forms used in FEMA grant programs. FEMA in close consultation with DHS Grants Policy and Oversight office will maintain its current grant forms. The forms are designed to collect information of an administrative or financial nature. Other supplementary grant program information used to determine issues related to eligibility and program management are collected separately with an approved OMB clearance.

OMB Circular A-133 requires recipients that expend a specified amount in a year in Federal funds must have an independent auditor perform a single or program-specific audit for that year. Executive Order 12372 established that States which have established a review and comment procedure be given opportunity to evaluate all applications submitted.

The American Recovery and Reinvestment Act of 2009, Public Law 111-5, was created to promote financial stimulus throughout the United States. Opportunities include funding for port security and bus and rail projects. Funds from this Act can be in the form of grant opportunities or outright purchases, depending upon the program and the funding allocation.

Collection of Information

Title: FEMA Grant Administration Forms/Non-Disaster (ND) Grants System.

Type of Information Collection: Revision of a currently approved information collection.

FEMA Forms: FEMA Form 112-02-1, Financial Status Report, FEMA Form 112-0-2, Budget Information-Construction; FEMA Form 112-0-3,A,B,C, Summary Sheet for Assurances and Certifications; FEMA Form 112-0-4, Outlay Report and Request for Reimbursement for Construction Program; FEMA Form 112-0-5, Report of Government Property; FEMA Form 112-0-6, Reconciliation of Grants and Cooperative Agreements; FEMA Form 112-0-7, Obligating Document for Award/Amendment; FEMA Form 112-0-8, Budget Information-Non-Construction; FEMA Form 112-0-9, Detailed Budget Worksheet; and FEMA Form 112-0-10, FEMA Grants Application Form.

Abstract: The information collection activity is the collection of financial and administrative information from States and local governments, universities, and non-profits pertaining to grant and cooperative agreement awards that include application, program narrative statement, grant award, performance information, outlay report, property management, and closeout information. The information submitted by grant recipients on forms allows FEMA to evaluate applications and make award decisions, monitor ongoing performance and manage the flow of federal funds, and to appropriately close-out grants or cooperative agreements, when all work is completed.

Affected Public: State, Local or Tribal Government; Business or Other for Profit; and Not-for-profit Institutions.

Number of Respondents: 56.

Number of Responses: 13,747.

Estimated Total Annual Burden Hours: 184,682.

Estimated Cost: There are no record keeping, capital, start-up or maintenance costs associated with this information collection.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: December 20, 2013.
Charlene D. Myrthil,
Director, Records Management Division, Mission Support Bureau, Federal Emergency Management Agency, Department of Homeland Security.

[FR Doc. 2014-00062 Filed 1-7-14; 8:45 am]

BILLING CODE 9111-78-P